JUDICIAL CONFERENCE OF THE UNITED STATES

Meeting of the Judicial Conference Advisory Committee on Rules of Appellate Procedure

AGENCY: Judicial Conference of the United States Advisory Committee on Rules of Appellate Procedure.

ACTION: Notice of open meeting.

SUMMARY: The Advisory Committee on Rules of Appellate Procedure will hold a two-day meeting. The meeting will be open to public observation but not participation.

DATES: April 8-9, 2010.

TIME: 8:30 a.m. to 5 p.m.

ADDRESSES: Inn on Biltmore Estate, I Approach Road, Asheville, NC 28803.

FOR FURTHER INFORMATION CONTACT: John K. Rabiej, Chief, Rules Committee Support Office, Administrative Office of the United States Courts, Washington, DC 20544, telephone (202) 502-1820.

Dated: March 4, 2010.
John K. Rabiej,
Chief, Rules Committee Support Office.

[FR Doc. 2010-5072 Filed 3-10-10; 8:45 am]

BILLING CODE 2210-55-M